SMALL BUSINESS ADMINISTRATION

Region V Regulatory Fairness Board; Public Federal Regulatory Enforcement Fairness Roundtable

The Small Business Administration Region V Regulatory Fairness Board and the SBA Office of the National Ombudsman will hold a Public Roundtable on Monday, July 15, 2002 at 10 a.m. at the McHenry County College, Room B-116, 8900 US Highway 14, Crystal Lake, IL 60012, to provide small business owners and representatives of trade associations with an opportunity to share information concerning the federal regulatory enforcement and compliance environment.

Anyone wishing to attend or to make a presentation must contact Gary Peele in writing or by fax, in order to be put on the agenda. Gary Peele, U.S. Small Business Administration, Illinois District Office, 500 West Madison Street, Chicago, IL 60661, phone (312) 353-7353, fax (202) 481-2031, e-mail: gary.peele@sba.gov.

For more information, see our Web site at www.sba.gov/ombudsman.

Dated: June 5, 2002.
Michael L. Barrera,
National Ombudsman.

[FR Doc. 02-15158 Filed 6-14-02; 8:45 am]

BILLING CODE 8025-01-P